DEPARTMENT OF JUSTICE

Notice of Lodging of Consent Decree Under the Comprehensive Environmental Response, Compensation, and Liability Act

In accordance with 42 U.S.C. 9622, notice is hereby given that on January 3, 2002 a proposed consent decree in United States v. Pemaco, Inc. and Lawrence Sze, Civil No. 00-6199DDDP(CTx), was lodged with the United States District Court for the Central District of California.

This consent decree represents a settlement of claims brought against Lawrence Sze, under section 107 of the Comprehensive Environmental Response, Compensation, and Liability Act, (“CERCLA”) (“the Act”), 42 U.S.C. 9607(a), for recovery of past and future response costs incurred by the United States in connection with the release or threat of release of hazardous substances at the Pemaco Superfund Site located in the City of Maywood, Los Angeles County, California (“the Site”). The Site is located at 5050 Slauson Avenue, in the City of Maywood, Los Angeles County, California, and consists of approximately 4 acres of land adjacent to the Los Angeles River. Lawrence Sze operated the facility from 1986 through 1991. Pemaco, Inc's operation included the purchase of chlorinated solvents, aromatic solvents, flammable liquids, and industrial oils. These chemicals were brought to the facility by rail and tanker truck, where they were repackaged for resale to industrial companies.

The Department of Justice has determined that Mr. Sze has a limited ability to pay and therefore entered into this proposed settlement, whereby Lawrence Sze will pay $50,000 in settlement of the government's claims.

The Department of Justice will receive for a period of thirty (30) days from the date of this publication comments relating to the Consent Decree. Comments should be addressed to the Assistant Attorney General, Environment and Natural Resources Division, care of Angels O'Connell, U.S. Department of Justice, Environment and Natural Resources Division, Environmental Enforcement Section, 301 Howard Street, Suite 1050, San Francisco, CA 94105 and should refer to United States v. Pemaco, Inc. and Lawrence Sze, DOJ Ref. 90-11-3-06958.

The Consent Decree may be examined at the Office of the United States Attorney for the Central District of California, 312 North Spring Street, G-8 U.S. Courthouse, Los Angeles, California 90012, and at the Region 9 office of the U.S. EPA, 75 Hawthorne Street, San Francisco, California. A copy of the Consent Decree may also be obtained by faxing a request to Tonia Fleetwood, Department of Justice Consent Decree Library, fax number (202) 616-6584; phone confirmation number (202) 514-1547. There is a charge for the copy (25 cent per page reproduction cost). Upon requesting a copy, please mail a check payable to the “U.S. Treasury”, in the amount of $4.25, to: Consent Decree Library, U.S. Department of Justice, PO Box 7611, Washington, DC 20044-7611. The check should refer to United States v. Pemaco, Inc., and Lawrence Sze, Civil No. 00-6199-DDDP(CTx), DOJ Ref. 90-11-3-06958.

Ellen M. Mahan,
Assistant Section Chief, Environmental Enforcement Section, Environment and Natural Resources Division.

[FR Doc. 02-1117 Filed 1-15-02; 8:45 am]

BILLING CODE 4410-15-M